DEPARTMENT OF TRANSPORTATION

Office of the Secretary

Aviation Proceedings, Agreements Filed the Week Ending August 1, 2003

The following Agreements were filed with the Department of Transportation under the provisions of 49 U.S.C. Sections 412 and 414. Answers may be filed within 21 days after the filing of the application.

Docket Number: OST-2003-15803.

Date Filed: July 29, 2003.

Parties: Members of the International Air Transport Association.

Subject: PTC COMP 1075 dated 29 July 2003 Composite Expedited Resolution 002f r1-r5 Intended effective date: October 1, 2003.

Andrea M. Jenkins,
Program Manager, Docket Operations, Federal Register Liaison.

[FR Doc. 03-20931 Filed 8-14-03; 8:45 am]

BILLING CODE 4910-62-P